DEPARTMENT OF ENERGY

Federal Energy Regulatory Commission

[Docket No. CP02-31-000]

Iroquois Gas Transmission System; Notice of Site Visit

August 20, 2002.

On August 28, 2002, the staff of the Office of Energy Projects (OEP) will conduct a visit of the Proposed Site and the Vail Road Alternative Site for the Brookfield Compressor Station proposed for construction by Iroquois Gas Transmission System (Iroquois). Both compressor station sites are located in the Town of Brookfield, Fairfield County, Connecticut. Representatives of Iroquois will accompany the OEP staff. All interested parties may meet at 1 p.m. at the proposed compressor station site located at 60 High Meadow Road in Brookfield. Attendees must provide their own transportation.

Anyone interested in additional information on the site visit may contact the Commission's Office of External Affairs at 1-866-208-FERC.

Linwood A. Watson, Jr.,
Deputy Secretary.

[FR Doc. 02-21716 Filed 8-26-02; 8:45 am]

BILLING CODE 6717-01-P